DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping and countervailing duty orders and findings with May anniversary dates. In accordance with Commerce's regulations, we are initiating those administrative reviews.

DATES: Applicable July 12, 2018.

FOR FURTHER INFORMATION CONTACT: Brenda E. Brown, Office of AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various antidumping and countervailing duty orders and findings with May anniversary dates.

All deadlines for the submission of various types of information, certifications, or comments or actions by Commerce discussed below refer to the number of calendar days from the applicable starting time.

Notice of No Sales

If a producer or exporter named in this notice of initiation had no exports, sales, or entries during the period of review (POR), it must notify Commerce within 30 days of publication of this notice in the Federal Register. All submissions must be filed electronically at http://access.trade.gov in accordance with 19 CFR 351.303.¹ Such submissions are subject to verification in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the period of review. We intend to place the CBP data on the record within five days of publication of the initiation notice and to make our decision regarding respondent selection within 30 days of publication of the initiation Federal Register notice. Comments regarding the CBP data and respondent selection should be submitted seven days after the placement of the CBP data on the record of this review. Parties wishing to submit rebuttal comments should submit those comments five days after the deadline for the initial comments.

In the event Commerce decides it is necessary to limit individual examination of respondents and conduct respondent selection under section 777A(c)(2) of the Act:

In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this antidumping proceeding (e.g., investigation, administrative review, new shipper review or changed circumstances review). For any company subject to this review, if Commerce determined, or continued to treat, that company as collapsed with others, Commerce will assume that such companies continue to operate in the same manner and will collapse them for respondent selection purposes. Otherwise, Commerce will not collapse companies for purposes of respondent selection. Parties are requested to (a) identify which companies subject to review previously were collapsed, and (b) provide a citation to the proceeding in which they were collapsed. Further, if companies are requested to complete the Quantity and Value (Q&V) Questionnaire for purposes of respondent selection, in general each company must report volume and value data separately for itself. Parties should not include data for any other party, even if they believe they should be treated as a single entity with that other party. If a company was collapsed with another company or companies in the most recently completed segment of this proceeding where Commerce considered collapsing that entity, complete Q&V data for that collapsed entity must be submitted.

Respondent Selection—Aluminum Extrusions From the People's Republic of China

In the event Commerce limits the number of respondents for individual examination in the administrative review of the antidumping duty order on aluminum extrusions from the People's Republic of China (“China”), Commerce intends to select respondents based on volume data contained in responses to Q&V questionnaires. Further, Commerce intends to limit the number of Q&V questionnaires issued in the review based on CBP data for U.S. imports of aluminum extrusions from the China. The extremely wide variety of individual types of aluminum extrusion products included in the scope of the order on aluminum extrusions would preclude meaningful results in attempting to determine the largest China exporters of subject merchandise by volume. Therefore, Commerce will limit the number of Q&V questionnaires issued based on the import values in CBP data which will serve as a proxy for imported quantities. Parties subject to the review to which Commerce does not send a Q&V questionnaire may file a response to the Q&V questionnaire by the applicable deadline if they desire to be included in the pool of companies from which Commerce will select mandatory respondents. The Q&V questionnaire will be available on Commerce's website at http://trade.gov/enforcement/news.asp on the date of publication of this notice in the Federal Register. The responses to the Q&V questionnaire must be received by Commerce within 14 days of publication of this notice. Please be advised that due to the time constraints imposed by the statutory and regulatory deadlines for antidumping duty administrative reviews, Commerce does not intend to grant any extensions for the submission of responses to the Q&V questionnaire. Parties will be given the opportunity to comment on the CBP data used by Commerce to limit the number of Q&V questionnaires issued. We intend to release the CBP data under APO to all parties having an APO within seven days of publication of this notice in the Federal Register. Commerce invites comments regarding CBP data and respondent selection within five days of placement of the CBP data on the record.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at http://enforcement.trade.gov/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Status Application will be available on Commerce's website at http://enforcement.trade.gov/nme/nme-sep-rate.html on the date of publication of this Federal Register notice. In responding to the Separate Rate Status Application, refer to the instructions contained in the application. Separate Rate Status Applications are due to Commerce no later than 30 calendar days of publication of this Federal Register notice. The deadline and requirement for submitting a Separate Rate Status Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than May 31, 2019.

| Period to be reviewed
Antidumping Duty Proceedings
AUSTRIA: Carbon and Alloy Steel Cut-to-Length Plate, A-433-812 | 11/14/16-4/30/18
Bohler Edelstahl GmbH & Co KG
Bohler Bleche GmbH & Co KG
BELGIUM: Carbon and Alloy Steel Cut-to-Length Plate, A-423-812 | 11/14/16-4/30/18
Henegelhoef Concrete Joints NV
Industeel Belgium S.A.
NLMK Clabecq S.A./NLMK Plate Sales S.A./NLMK Sales Europe S.A./NLMK Manage Steel Center S.A./NLMK La Louviere S.A.
Sarens NV
Thyssenkrupp Materials Belgium N.V.
Universal Eisen und Stahl GmbH
Valvan Baling Systems
Voestalpine Belgium NV.
CANADA: Citric Acid and Citrate Salt, A-122-853 | 5/1/17-4/30/18
Jungbunzlauer Canada Inc.
CANADA: Polyethylene Terephthalate Resin, A-122-855 | 5/1/17-4/30/18
Compagnie Selenis Canada
FRANCE: Carbon and Alloy Steel Cut-To-Length Plate, A-427-828 | 11/14/16-4/30/18
Industeel France S.A.S.
GERMANY: Carbon and Alloy Steel Cut-To-Length Plate, A-428-844 | 11/14/16-4/30/18
AG der Dillinger Huttenwerke
Ilsendburger Grobblech GmbH
Perficon Steel GmbH
Reiner Brach GmbH & Co. KG
Rudolf Rafflenbeul Stahlwarenfabrik GmBH & Co.
Salzgitter Mannesmann Grobblech GmbH
Salaigitter Flachstahl GmbH
Salzgitter Mannesmann International GmbH
Tenova (TAKRAF GmbH Lauchhammer)
ThyssenKrupp Steel Europe AG
ThyssenKrupp Schulte GmbH
UPC Universal Piping GmbH
VETTER Umformtechnik GmbH
INDIA: Certain Frozen Warmwater Shrimp,⁴ A-533-840 | 2/1/17-1/31/18
INDIA: Certain Welded Carbon Steel Standard Pipes and Tubes, A-533-502 | 5/1/17-4/30/18
Apl Apollo Tubes Ltd.
Asian Contec Ltd.
Bhandari Foils & Tubes Ltd.
Bhushan Steel Ltd.
Blue Moon Logistics Pvt. Ltd.
CH Robinson Worldwide
Ess-Kay Engineers, Manushi Enterprise & Nishi Boring Corporation
Fiber Tech Composite Pvt. Ltd.
Garg Tube Export LLP
GCL Private Limited
Goodluck India Ltd.
GVN Fuels Ltd.
Hydromatik
Jindal Quality Tubular Ltd.
KLT Automatic & Tubular Products Ltd.
Lloyds Line Pipes Ltd.
MARINEtrans India Private Ltd.
Patton International Ltd.
SAR Transport Systems Pvt. Ltd.
Surya Global Steel Tubes Ltd.
Surya Roshni Ltd.
Welspun India Ltd.
Zenith Birla (India) Ltd.
Zenith Birla Steels Private Ltd.
Zenith Dyeintermediates Ltd.
ITALY: Carbon and Alloy Steel Cut-To-Length Plate, A-475-834 | 11/14/16-4/30/18
Euroflex SpA
Evarz Palini e Bertoil SpA
Ilva SpA
Metalcam SpA
Modelleria di Modini Renato
NLMK Verona SpA
Officine Tecnosider srl
Ondulit Italiana SpA
Padana Tubi e Profilati Acciaio SpA
Riva Fire SpA
JAPAN: Diffusion-Annealed Nickel-Plated Flat-Rolled Steel Products, A-588-869 | 5/1/17-4/30/18
Nippon Steel & Sumitomo Metals Corporation
Toyo Kohan Co., Ltd.
OMAN: Polyethylene Terephthalate Resin, A-523-810 | 5/1/17-4/30/18
Octal Saoc FZC
REPUBLIC OF KOREA: Carbon and Alloy Steel Cut-To-Length Plate, A-580-887 | 11/14/16-4/30/18
Buma Ce Co., Ltd.
Dong Yang Steel Pipe Co., Ltd.
Dongkuk Steel Mill Co., Ltd.
Expeditors Korea Ltd.
Haem Co., Ltd.
Hyundai Glovis Co., Ltd.
Hyundia Steel Company
J.I. Sea & Air Express Co., Ltd.
Maxpeed Co., Ltd.
POSCO
POSCO Daewoo Corporation
POSCO Processing & Service Co., Ltd.
Rames Logistics Co., Ltd.
Sumitomo Corp. Korea Ltd.
REPUBLIC OF KOREA: Polyester Staple Fiber, A-580-839 | 5/1/17-4/30/18
Huvis Corporation
Toray Chemical Korea, Inc.
TAIWAN: Carbon and Alloy Steel Cut-To-Length Plate, A-583-858 | 11/14/16-4/30/18
Broad Hand Enterprise Co., Ltd.
C.H. Robinson Freight Services
China Steel Corporation
Chun Chi Grating Co., Ltd.
Eci Taiwan Co., Ltd.
Locksure Inc.
Nan Hoang Traffic Instrument Co.
New Marine Consolidator Co., Ltd.
North America Mining Group Co., Ltd..
Oriental Power Logistics Co., Ltd.
Product Depot International Corp.
Scanwell Logistics (Taiwan)
Shang Chen Steel Co., Ltd.
Shin Yang Steel Co., Ltd.
Shye Yao Steel Co., Ltd.
Speedmark Consolidation
Sumeeko Industries Co., Ltd.
Triple Merits Ltd.
UKI Enterprise Co., Ltd.
TAIWAN: Certain Circular Welded Carbon Steel Pipes and Tubes, A-583-008 | 5/1/17-4/30/18
Chung Hung Steel Corp.
Far East Machinery Co., Ltd.
Far East Machinery Group
Fine Blanking & Tool Co., Ltd.
Hou Lih Co., Ltd.
Kao Hsing Chang Iron & Steel Corp.
Lang Hwang Corp.
Locksure Inc.
New Chance Products Co., Ltd.
Pat & Jeff Enterprise Co., Ltd.
Pin Tai Metal Inc.
Shang Jouch Industrial Co., Ltd.
Shengyu Steel Co., Ltd.
Shin Yang Steel Co., Ltd.
Shuan Hwa Industrial Co., Ltd.
Tension Steel Industries Co., Ltd.
Titan Fastech Ltd.
Yeong Shien Industrial Co., Ltd.
Yieh Hsing Enterprise Co., Ltd.
Yousing Precision Industry Co., Ltd.
TAIWAN: Stilbenic Optical Brightening Agents, A-583-848 | 5/1/17-4/30/18
Teh Fong Min International Co., Ltd.
THE PEOPLE'S REPUBLIC OF CHINA: 1-Hydroxyethylidene-1,1-Diphoshonic Acid (Hedp), A-570-045 | 11/14/16-4/30/18
Henan Qingshuiyuan Technology Co., Ltd.
THE PEOPLE'S REPUBLIC OF CHINA: Aluminum Extrusions, A-570-967 | 5/1/17-4/30/18
Acro Import and Export Co.
Activa International Inc.
Activa Leisure Inc.
Allied Maker Limited
Alnan Aluminum Co., Ltd.
Alnan Aluminum Ltd.
Aluminicaste Fundicion de Mexico
AMC Ltd.
AMC Limited
Anji Chang Hong Chain Manufacturing
Anshan Zhongjda Industry Co., Ltd.
Aoda Aluminium (Hong Kong) Co., Limited
AsiaAlum GroupAtlas Integrated Manufacturing Ltd.
Belton (Asia) Development Limited
Belton (Asia) Development Ltd.
Birchwoods (Lin'an) Leisure Products Co., Ltd.
Bolnar Hong Kong Ltd.
Bracalente Metal Products (Suzhou) Co., Ltd.
Brilliance General Equipment Co., Ltd.
Changshu Changshen Aluminum Products Co., Ltd.
Changshu Changsheng Aluminum Products Co., Ltd.
Changzhou Changzhen Evaporator Co., Ltd.
Changzhou Changzheng Evaporator Co., Ltd.
Changzhou Tenglong Auto Accessories Manufacturing Co. Ltd
Changzhou Tenglong Auto Parts Co., Ltd.
Changzhou Tenglong Auto Parts Co. Ltd.
China Square
China Square Industrial Co.
China Square Industrial Ltd.
China Zhongwang Holdings, Ltd.
Chiping One Stop Industrial & Trade Co., Ltd.
Classic & Contemporary Inc.
Clear Sky Inc.
Cosco (J.M.) Aluminum Co., Ltd.
Cosco (JM) Aluminum Development Co. Ltd.
Dalian Huacheng Aquatic Products
Dalian Liwang Trade Co., Ltd.
Danfoss Micro Channel Heat Exchanger (Jia Xing) Co., Ltd.
Daya Hardware Co. Ltd.
Dongguan Dazhan Metal Co., Ltd.
Dongguang Aoda Aluminum Co., Ltd.
Dongguan Golden Tiger Hardware Industrial Co., Ltd.
Dragonluxe Limited
Dynabright International Group (HK) Ltd.
Dynamic Technologies China
ETLA Technology (Wuxi) Co. Ltd.
Ever Extend Ent. Ltd.
Fenghua Metal Product Factory
First Union Property Limited
FookShing Metal & Plastic Co. Ltd.
Foreign Trade Co. of Suzhou New & High-Tech Industrial Development Zone
Foshan City Nanhai Hongjia Aluminum Alloy Co., Ltd.
Foshan Golden Source Aluminum Products Co., Ltd.
Foshan Guangcheng Aluminium Co., Ltd.
Foshan Jinlan Aluminum Co. Ltd.
Foshan JinLan Aluminum Co., Ltd.
Foshan JMA Aluminum Company Limited
Foshan Nanhai Niu Yuan Hardware Product Co., Ltd.
Foshan Shanshui Fenglu Aluminum Co., Ltd.
Foshan Shunde Aoneng Electrical Appliances Co., Ltd.
Foshan Yong Li Jian Aluminum Co., Ltd.
Fujian Sanchuan Aluminum Co., Ltd.
Fukang Aluminum & Plastic Import and Export Co., Ltd.
Fuzhou Sunmodo New Energy Equipment
Gaotang Xinhai Economy & Trade Co., Ltd.
Genimex Shanghai, Ltd.
Global Hi-Tek Precision Co. Ltd.
Global PMX Dongguan Co., Ltd.
Global Point Technology (Far East) Limited
Gold Mountain International Development, Ltd.
Golden Dragon Precise Copper Tube Group, Inc.
Gran Cabrio Capital Pte. Ltd.
Gree Electric Appliances
GT88 Capital Pte. Ltd.
Guang Ya Aluminium Industries Co. Ltd.
Guang Ya Aluminum Industries Company Ltd
Guang Ya Aluminium Industries (HK) Ltd.
Guangcheng Aluminum Co., Ltd.
Guangdong Hao Mei Aluminum Co., Ltd.
Guangdong Jianmei Aluminum Profile Company Limited
Guangdong JMA Aluminum Profile Factory (Group) Co., Ltd.
Guangdong Midea
Guangdong Midea Microwave and Electrical Appliances
Guangdong Nanhai Foodstuffs Imp. & Exp. Co., Ltd.
Guangdong Weiye Aluminum Factory Co., Ltd.
Guangdong Whirlpool Electrical Appliances Co., Ltd.
Guangdong Xingfa Aluminum Co., Ltd.
Guangdong Xin Wei Aluminum Products Co., Ltd.
Guangdong Yonglijian Aluminum Co., Ltd.
Guangdong Zhongya Aluminum Company Ltd.
Guangzhou Jangho Curtain Wall System Engineering Co., Ltd.
Guangzhou Mingcan Die-Casting Hardware Products Co., Ltd.
Hangzhou Xingyi Metal Products Co., Ltd.
Hanwood Enterprises Limited
Hanyung Alcoba Co., Ltd.
Hanyung Alcobis Co., Ltd.
Hanyung Metal (Suzhou) Co., Ltd.
Hao Mei Aluminum Co., Ltd.
Hao Mei Aluminum International Co., Ltd.
Hebei Xusen Wire Mesh Products Co., Ltd.
Henan New Kelong Electrical Appliances Co., Ltd.
Henan Zhongduo Aluminum Magnesium New Material Co, Ltd.
Hong Kong Gree Electric Appliances Sales Limited
Hong Kong Modern Non-Ferrous Metal
Honsense Development Company
Houztek Architectural Products Co., Ltd.
Hui Mei Gao Aluminum Foshan Co., Ltd.
Huixin Aluminum
IDEX Dinglee Technology (Tianjin) Co., Ltd.
IDEX Health
IDEX Technology Suzhou Co., Ltd.
Innovative Aluminum (Hong Kong) Limited
iSource Asia
Jackson Travel Products Co., Ltd.
Jangho Curtain Wall Hong Kong Ltd.
Jiangmen Jianghai District Foreign Economic Enterprise Corp. Ltd.
Jiangmen Jianghai Foreign Ent. Gen.
Jiangmen Qunxing Hardware Diecasting Co., Ltd.
Jiangsu Changfa Refrigeration Co.
Jiangyin Suncitygaylin
Jiangyin Trust International Inc.
Jiangyin Xinhong Doors and Windows Co., Ltd.
Jiaxing Jackson Travel Products Co., Ltd.
Jiaxing Taixin Metal Products Co., Ltd.
Jiuyan Co., Ltd.
JMA (HK) Company Limited
Johnson Precision Engineering (Suzhou) Co., Ltd.
Justhere Co., Ltd.
Kam Kiu Aluminum Products Sdn Bhd
Kanal Precision Aluminum Product Co., Ltd.
Karlton Aluminum Company Ltd.
Kong Ah International Company Limited
Kromet International Inc.
Kromet Intl Inc.
Kromet International
Kunshan Giant Light Metal Technology Co., Ltd.
Liaoning Zhong Da Industrial Aluminum Co., Ltd.
Liaoning Zhongwang Group Co., Ltd.
Liaoyang Zhongwang Aluminum Profile Co. Ltd.
Longkou Donghai Trade Co., Ltd.
Metal Tech Co. Ltd.
Metaltek Group Co., Ltd.
Metaltek Metal Industry Co., Ltd.
Midea Air Conditioning Equipment Co., Ltd.
Midea Electric Trading Co., Pte Ltd.
Midea International Trading Co., Ltd.
Midea International Training Co., Ltd.
Miland Luck Limited
Nanhai Textiles Import & Export Co., Ltd.
New Asia Aluminum & Stainless Steel Product Co., Ltd.
New Zhongya Aluminum Factory
Nidec Sankyo (Zhejang) Corporation
Nidec Sankyo Zhejiang Corporation
Nidec Sankyo Singapore Pte. Ltd.
Ningbo Coaster International Co., Ltd.
Ningbo Hi Tech Reliable Manufacturing Company
Ningbo Innopower Tengda Machinery
Ningbo Ivy Daily Commodity Co., Ltd.
Ningbo Yili Import and Export Co., Ltd.
North China Aluminum Co., Ltd.
North Fenghua Aluminum Ltd.
Northern States Metals
PanAsia Aluminum (China) Limited
Pengcheng Aluminum Enterprise Inc.
Permasteelisa Hong Kong Limited
Permasteelisa South China Factory
Pingguo Aluminum Company Limited
Pingguo Asia Aluminum Co., Ltd.
Popular Plastics Company Limited
Precision Metal Works Ltd.
Press Metal International Ltd.
Samuel, Son & Co., Ltd.
Sanchuan Aluminum Co., Ltd.
Sanhua (Hangzhou) Micro Channel Heat Exchanger Co., Ltd.
Shandong Fukang Aluminum & Plastic Co. LTD.
Shandong Huajian Aluminum Group
Shangdong Huasheng Pesticide Machinery Co.
Shangdong Nanshan Aluminum Co., Ltd.
Shanghai Automobile Air-Conditioner Accessories Co. Ltd.
Shanghai Automobile Air Conditioner Accessories Ltd.
Shanghai Canghai Aluminum Tube Packaging Co., Ltd.
Shanghai Dofiberone Composites Co. Ltd.
Shanghai Dongsheng Metal
Shanghai Shen Hang Imp & Exp Co., Ltd.
Shanghai Tongtai Precise Aluminum Alloy Manufacturing Co. Ltd.
Shanghai Top-Ranking Aluminum Products Co., LTD.
Shanghai Top-Ranking New Materials Co., Ltd.
Shenyang Yuanda Aluminum Industry Engineering Co. Ltd.
Shenzhen Hudson Technology Development Co.
Shenzhen Jiuyuan Co., Ltd.
Sihui Shi Guo Yao Aluminum Co., Ltd.
Sincere Profit Limited
Skyline Exhibit Systems (Shanghai) Co. Ltd.
Southwest Aluminum (Group) Co., Ltd.
Summit Heat Sinks Metal Co., Ltd.
Summit Plastics Nanjing Co. Ltd.
Suzhou JRP Import & Export Co., Ltd.
Suzhou New Hongji Precision Part Co.
Tai-Ao Aluminum (Taishan) Co. Ltd.
Taishan City Kam Kiu Aluminium Extrusion Co., Ltd.
Taizhou Lifeng Manufacturing Co., Ltd.
Taitoh Machinery Shanghai Co. Ltd.
Taizhou United Imp. & Exp. Co., Ltd.
tenKsolar (Shanghai) Co., Ltd.
Tianjin Ganglv Nonferrous Metal Materials Co., Ltd.
Tianjin Jinmao Import & Export Corp., Ltd.
Tianjin Ruxin Electric Heat Transmission Technology Co., Ltd.
Tianjin Xiandai Plastic & Aluminum Products Co., Ltd.
Tiazhou Lifeng Manufacturing Corporation
Top-Wok Metal Co., Ltd.
Traffic Brick Network, LLC
Union Aluminum (SIP) Co.
Union Industry (Asia) Co., Ltd.
USA Worldwide Door Components (Pinghu) Co., Ltd.
Wenzhou Shengbo Decoration & Hardware
Wenzhou Yongtai Electric Co., Ltd.
Whirlpool (Guangdong)
Whirlpool Canada L.P.
Whirlpool Microwave Products Development Ltd.
Worldwide Door Components, Inc.
WTI Building Products, Ltd.
Wuxi Lutong Fiberglass Doors Co., Ltd,
Xin Wei Aluminum Co.
Xin Wei Aluminum Company Limited
Xinya Aluminum & Stainless Steel Product Co., Ltd.
Yuyao Haoshen Import & Export
Yuyao Fanshun Import & Export Co., Ltd.
Zahoqing China Square Industry Limited
Zhaoqing Asia Aluminum Factory Company Ltd.
Zhaoqing China Square Industry Limited
Zhaoqing China Square Industrial Ltd.
Zhaoqing New Zhongya Aluminum Co., Ltd.
Zhejiang Anji Xinxiang Aluminum Co., Ltd.
Zhejiang Lilies Industrial and Commercial Co.
Zhejiang Yili Automobile Air Condition Co., Ltd.
Zhejiang Yongkang Listar Aluminum Industry Co., Ltd.
Zhejiang Zhengte Group Co., Ltd.
Zhenjiang Xinlong Group Co., Ltd.
Zhongshan Daya Hardware Co., Ltd.
Zhongshan Gold Mountain Aluminum Factory Ltd.
Zhongya Shaped Aluminum (HK) Holding Limited
Zhuhai Runxingtai Electrical Equipment Co., Ltd.
THE PEOPLE'S REPUBLIC OF CHINA: Oil Country Tubular Goods, A-570-943 | 5/1/17-4/30/18
Baoshan Iron & Steel
Hengyang Steel Tube Group International Trading Inc.
Hubei Xinyegang Steel Co., Ltd.
Hubei Xin Yegang Special Tube
THE PEOPLE'S REPUBLIC OF CHINA: Pure Magnesium, A-570-832 | 5/1/17-4/30/18
Tianjin Magnesium International Co., Ltd.
Tianjin Magnesium Metal Co., Ltd.
TURKEY: Circular Welded Carbon Steel Pipes and Tubes, A-489-501 | 5/1/17-4/30/18
Borusan Birlesik Boru Fabrikalari San ve Tic.
Borusan Gemlik Boru Tesisleri A.S.
Borusan Holding
Borusan Ihracat Ithalat ve Dagitim A.S.
Borusan Istikbal Ticaret T.A.S.
Borusan Ithicat ve Dagitim A.S.
Borusan Mannesmann Boru Sanayi ve Ticaret A.S.
Borusan Mannesmann Yatirim Holding
Cayirova Boru Sanayi ve Ticaret A.S.
Cinar Boru Profil San. Ve Tic. As
Erbosan Erciyas Boru Sanayi ve Ticaret A.S.
Kale Baglanti Teknolojileri San. ve Tic.
Noksel Celik Boru Sanayi A.S.
Toscelik Metal Ticaret A.S.
Toscelik Profil ve Sac Endustrisi A.S.
Tosyali Dis Ticaret A.S.
Tubeco Pipe and Steel Corporation
Yucel Boru ve Profil Endustrisi A.S.
Yucelboru Ihracat Ithalat ve Pazarlama A.S.
TURKEY: Light-Walled Rectangular Pipe and Tube, A-489-815 | 5/1/17-4/30/18
Noksel Celik Boru Sanayi A.S.
Countervailing Duty Proceedings
REPUBLIC OF KOREA: Carbon and Alloy Steel Cut-To-Length Plate, C-580-888 | 9/14/16- 12/31/17
BDP International
Blue Track Equipment
Boxco
Bukook Steel Co., Ltd.
Buma CE Co., Ltd.
Daelim Industrial Co., Ltd.
Daesam Industrial Co., Ltd.
Daesin Lighting Co., Ltd.
Daewoo International Corp.
Dong Yang Steel Pipe
Dongkuk Industries Co., Ltd.
Dongkuk Steel Mill Co., Ltd.
Dongbu Steel Co., Ltd.
EAE Automotive Equipment
EEW KHPC Co., Ltd.
Eplus Expo Inc.
GS Global Corp.
Haem Co., Ltd.
Han Young Industries
Hyosung Corp.
Hyundai Steel Co.
Jinmyung Frictech Co., Ltd.
Korean Iron and Steel Co., Ltd.
Kyoungil Precision Co., Ltd.
POSCO
Samsun C&T Corp.
SK Netwoks Co., Ltd.
Steel N People Ltd.
Summit Industry
Sungjin Co., Ltd.
Young Sun Steel
THE PEOPLE'S REPUBLIC OF CHINA: 1-Hydroxyethylidene-1,1-Diphoshonic Acid (Hedp), C-570-046 | 9/8/16-12/31/17
Changzhou Kewei Fine Chemicals Co., Ltd.
Changzhou Yao's Tongde Chemical Co., Ltd.
Hebei Longke Water Treatment Co., Ltd.
Henan Qinshuiyuan Technology Co., Ltd.
Jinghai Environmental Protection Co., Ltd. (Jianghai)
Nanjing University of Chemical Technology Changzhou Wujin Water Quality
Stabilizer Factory
Nantong Uniphos Chemicals Co., Ltd.
Shandong Huayou Chemistry Co., Ltd.
Shandong Taihe Chemicals Co., Ltd.
Shandong Taihe Water Treatment Technologies Co., Ltd.
Shandong Xintai Water Treatment Technology
Wujin Fine Chemical Factory Co., Ltd.
Zaozhuang Fuxing Water Treatment Technology
Zaozhuang YouBang Chemicals Co., Ltd.
Zouping Dongfang Chemical Industry Co., Ltd.
THE PEOPLE'S REPUBLIC OF CHINA: Aluminum Extrusions, C-570-968 | 1/1/17-12/31/17
Acro Import and Export Co.
Activa International Inc.
Activa Leisure Inc.
Allied Maker Limited
Alnan Aluminum Co., Ltd.
Alnan Aluminum Ltd.
Aluminicaste Fundicion de Mexico
AMC Ltd.
AMC Limited
Anji Chang Hong Chain Manufacturing
Anshan Zhongjda Industry Co., Ltd.
Aoda Aluminium (Hong Kong) Co., Limited
AsiaAlum Group
Atlas Integrated Manufacturing Ltd.
Belton (Asia) Development Limited
Belton (Asia) Development Ltd.
Birchwoods (Lin'an) Leisure Products Co., Ltd.
Bolnar Hong Kong Ltd.
Bracalente Metal Products (Suzhou) Co., Ltd.
Brilliance General Equipment Co., Ltd.
Changshu Changshen Aluminum Products Co., Ltd.
Changshu Changsheng Aluminum Products Co., Ltd.
Changzhou Changzhen Evaporator Co., Ltd.
Changzhou Changzheng Evaporator Co., Ltd.
Changzhou Tenglong Auto Accessories Manufacturing Co. Ltd
Changzhou Tenglong Auto Parts Co., Ltd.
Changzhou Tenglong Auto Parts Co Ltd
China Square
China Square Industrial Co.
China Square Industrial Ltd.
China Zhongwang Holdings, Ltd.
Chiping One Stop Industrial & Trade Co., Ltd.
Classic & Contemporary Inc.
Clear Sky Inc.
Cosco (J.M.) Aluminum Co., Ltd.
Cosco (JM) Aluminum Development Co. Ltd
Dalian Huacheng Aquatic Products
Dalian Liwang Trade Co., Ltd.
Danfoss Micro Channel Heat Exchanger (Jia Xing) Co., Ltd.
Daya Hardware Co. Ltd.
Dongguan Dazhan Metal Co., Ltd.
Dongguang Aoda Aluminum Co., Ltd.
Dongguan Golden Tiger Hardware Industrial Co., Ltd.
Dragonluxe Limited
Dynabright International Group (HK) Ltd.
Dynamic Technologies China
ETLA Technology (Wuxi) Co. Ltd.
Ever Extend Ent. Ltd.
Fenghua Metal Product Factory
First Union Property Limited
FookShing Metal & Plastic Co. Ltd.
Foreign Trade Co. of Suzhou New & High-Tech Industrial Development Zone
Foshan City Nanhai Hongjia Aluminum Alloy Co., Ltd.
Foshan Golden Source Aluminum Products Co., Ltd.
Foshan Guangcheng Aluminium Co., Ltd
Foshan Jinlan Aluminum Co. Ltd.
Foshan JinLan Aluminum Co., Ltd.
Foshan JMA Aluminum Company Limited
Foshan Nanhai Niu Yuan Hardware Product Co., Ltd.
Foshan Shanshui Fenglu Aluminum Co., Ltd.
Foshan Shunde Aoneng Electrical Appliances Co., Ltd
Foshan Yong Li Jian Aluminum Co., Ltd.
Fujian Sanchuan Aluminum Co., Ltd.
Fukang Aluminum & Plastic Import and Export Co., Ltd.
Fuzhou Sunmodo New Energy Equipment
Gaotang Xinhai Economy & Trade Co., Ltd.
Genimex Shanghai, Ltd.
Global Hi-Tek Precision Co. Ltd
Global PMX Dongguan Co., Ltd.
Global Point Technology (Far East) Limited
Gold Mountain International Development, Ltd.
Golden Dragon Precise Copper Tube Group, Inc.
Gran Cabrio Capital Pte. Ltd.
Gree Electric Appliances
GT88 Capital Pte. Ltd.
Guang Ya Aluminium Industries Co. Ltd.
Guang Ya Aluminum Industries Company Ltd
Guang Ya Aluminium Industries (HK) Ltd.
Guangcheng Aluminum Co., Ltd.
Guangdong Hao Mei Aluminum Co., Ltd.
Guangdong Jianmei Aluminum Profile Company Limited
Guangdong JMA Aluminum Profile Factory (Group) Co., Ltd.
Guangdong Midea
Guangdong Midea Microwave and Electrical Appliances
Guangdong Nanhai Foodstuffs Imp. & Exp. Co., Ltd.
Guangdong Weiye Aluminum Factory Co., Ltd.
Guangdong Whirlpool Electrical Appliances Co., Ltd.
Guangdong Xingfa Aluminum Co., Ltd.
Guangdong Xin Wei Aluminum Products Co., Ltd.
Guangdong Yonglijian Aluminum Co., Ltd.
Guangdong Zhongya Aluminum Company Ltd.
Guangzhou Jangho Curtain Wall System Engineering Co., Ltd.
Guangzhou Mingcan Die-Casting Hardware Products Co., Ltd.
Hangzhou Xingyi Metal Products Co., Ltd.
Hanwood Enterprises Limited
Hanyung Alcoba Co., Ltd.
Hanyung Alcobis Co., Ltd.
Hanyung Metal (Suzhou) Co., Ltd.
Hao Mei Aluminum Co., Ltd.
Hao Mei Aluminum International Co., Ltd.
Hebei Xusen Wire Mesh Products Co., Ltd.
Henan New Kelong Electrical Appliances Co., Ltd.
Henan Zhongduo Aluminum Magnesium New Material Co., Ltd.
Hong Kong Gree Electric Appliances Sales Limited
Hong Kong Modern Non-Ferrous Metal
Honsense Development Company
Houztek Architectural Products Co., Ltd.
Hui Mei Gao Aluminum Foshan Co., Ltd.
Huixin Aluminum
IDEX Dinglee Technology (Tianjin) Co., Ltd.
IDEX Health
IDEX Technology Suzhou Co., Ltd.
Innovative Aluminum (Hong Kong) Limited
iSource Asia
Jackson Travel Products Co., Ltd.
Jangho Curtain Wall Hong Kong Ltd.
Jiangmen Jianghai District Foreign Economic Enterprise Corp. Ltd.
Jiangmen Jianghai Foreign Ent. Gen.
Jiangmen Qunxing Hardware Diecasting Co., Ltd.
Jiangsu Changfa Refrigeration Co.
Jiangyin Suncitygaylin
Jiangyin Trust International Inc.
Jiangyin Xinhong Doors and Windows Co., Ltd.
Jiaxing Jackson Travel Products Co., Ltd.
Jiaxing Taixin Metal Products Co., Ltd.
Jiuyan Co., Ltd.
JMA (HK) Company Limited
Johnson Precision Engineering (Suzhou) Co., Ltd.
Justhere Co., Ltd.
Kam Kiu Aluminum Products Sdn Bhd
Kanal Precision Aluminum Product Co., Ltd.
Karlton Aluminum Company Ltd.
Kong Ah International Company Limited
Kromet International Inc.
Kromet Intl Inc.
Kromet International
Kunshan Giant Light Metal Technology Co., Ltd.
Liaoning Zhong Da Industrial Aluminum Co., Ltd.
Liaoning Zhongwang Group Co., Ltd.
Liaoyang Zhongwang Aluminum Profile Co. Ltd.
Longkou Donghai Trade Co., Ltd.
Metal Tech Co Ltd.
Metaltek Group Co., Ltd.
Metaltek Metal Industry Co., Ltd.
Midea Air Conditioning Equipment Co., Ltd.
Midea Electric Trading Co., Pte Ltd.
Midea International Trading Co., Ltd.
Midea International Training Co., Ltd.
Miland Luck Limited
Nanhai Textiles Import & Export Co., Ltd.
New Asia Aluminum & Stainless Steel Product Co., Ltd.
New Zhongya Aluminum Factory
Nidec Sankyo (Zhejang) Corporation
Nidec Sankyo Zhejiang Corporation
Nidec Sankyo Singapore Pte. Ltd.
Ningbo Coaster International Co., Ltd.
Ningbo Hi Tech Reliable Manufacturing Company
Ningbo Innopower Tengda Machinery
Ningbo Ivy Daily Commodity Co., Ltd.
Ningbo Yili Import and Export Co., Ltd.
North China Aluminum Co., Ltd.
North Fenghua Aluminum Ltd.
Northern States Metals
PanAsia Aluminum (China) Limited
Pengcheng Aluminum Enterprise Inc.
Permasteelisa Hong Kong Limited
Permasteelisa South China Factory
Pingguo Aluminum Company Limited
Pingguo Asia Aluminum Co., Ltd.
Popular Plastics Company Limited
Precision Metal Works Ltd.
Press Metal International Ltd.
Samuel, Son & Co., Ltd.
Sanchuan Aluminum Co., Ltd.
Sanhua (Hangzhou) Micro Channel Heat Exchanger Co., Ltd.
Shandong Fukang Aluminum & Plastic Co. LTD.
Shandong Huajian Aluminum Group
Shangdong Huasheng Pesticide Machinery Co.
Shangdong Nanshan Aluminum Co., Ltd.
Shanghai Automobile Air-Conditioner Accessories Co Ltd.
Shanghai Automobile Air Conditioner Accessories Ltd.
Shanghai Canghai Aluminum Tube Packaging Co., Ltd.
Shanghai Dofiberone Composites Co. Ltd.
Shanghai Dongsheng Metal
Shanghai Shen Hang Imp & Exp Co., Ltd.
Shanghai Tongtai Precise Aluminum Alloy Manufacturing Co. Ltd.
Shanghai Top-Ranking Aluminum Products Co., LTD.
Shanghai Top-Ranking New Materials Co., Ltd.
Shenyang Yuanda Aluminum Industry Engineering Co. Ltd.
Shenzhen Hudson Technology Development Co.
Shenzhen Jiuyuan Co., Ltd.
Sihui Shi Guo Yao Aluminum Co., Ltd.
Sincere Profit Limited
Skyline Exhibit Systems (Shanghai) Co. Ltd.
Southwest Aluminum (Group) Co., Ltd.
Summit Heat Sinks Metal Co., Ltd.
Summit Plastics Nanjing Co. Ltd.
Suzhou JRP Import & Export Co., Ltd.
Suzhou New Hongji Precision Part Co.
Tai-Ao Aluminum (Taishan) Co. Ltd.
Taishan City Kam Kiu Aluminium Extrusion Co., Ltd.
Taitoh Machinery Shanghai Co. Ltd.
Taizhou Lifeng Manufacturing Co., Ltd.
Tiazhou Lifeng Manufacturing Corporation
Taizhou United Imp. & Exp. Co., Ltd.
tenKsolar (Shanghai) Co., Ltd.
Tianjin Ganglv Nonferrous Metal Materials Co., Ltd.
Tianjin Jinmao Import & Export Corp., Ltd.
Tianjin Ruxin Electric Heat Transmission Technology Co., Ltd.
Tianjin Xiandai Plastic & Aluminum Products Co., Ltd.
Top-Wok Metal Co., Ltd.
Traffic Brick Network, LLC
Union Aluminum (SIP) Co.
Union Industry (Asia) Co., Ltd.
USA Worldwide Door Components (Pinghu) Co., Ltd.
Wenzhou Shengbo Decoration & Hardware
Wenzhou Yongtai Electric Co., Ltd.
Whirlpool (Guangdong)
Whirlpool Canada L.P.
Whirlpool Microwave Products Development Ltd.
Worldwide Door Components, Inc.
WTI Building Products, Ltd.
Wuxi Lutong Fiberglass Doors Co., Ltd.
Xin Wei Aluminum Co.
Xin Wei Aluminum Company Limited
Xinya Aluminum & Stainless Steel Product Co., Ltd.
Yuyao Fanshun Import & Export Co., Ltd.
Yuyao Haoshen Import & Export
Zahoqing China Square Industry Limited
Zhaoqing Asia Aluminum Factory Company Ltd.
Zhaoqing China Square Industrial Ltd.
Zhaoqing China Square Industry Limited
Zhaoqing New Zhongya Aluminum Co., Ltd.
Zhejiang Anji Xinxiang Aluminum Co., Ltd.
Zhejiang Lilies Industrial and Commercial Co.
Zhejiang Yili Automobile Air Condition Co., Ltd.
Zhejiang Yongkang Listar Aluminum Industry Co., Ltd.
Zhejiang Zhengte Group Co., Ltd.
Zhenjiang Xinlong Group Co., Ltd.
Zhongshan Daya Hardware Co., Ltd.
Zhongshan Gold Mountain Aluminum Factory Ltd.
Zhongya Shaped Aluminum (HK) Holding Limited
Zhuhai Runxingtai Electrical Equipment Co., Ltd.

Suspension Agreements

⁴ On April 16, 2018, Commerce initiated the 2017-2018 administrative review of Certain Frozen Warmwater Shrimp from India. See Initiation of Antidumping and Countervailing Duty Administrative Reviews, 83 FR 16298, 16300-16304. In the notice of initiation, Commerce inadvertently made the following errors: (1) We included Premier Marine Products Private Limited twice; (2) we made typographical errors in the names of two companies (i.e., Triveni Fisheries P Ltd. and U & Company Marine Exports, listed as Triveni Fisheries P Ltd.U & Company Marine Exports); and (3) we failed to limit the review for Devi Sea Foods to shrimp produced in India where Devi Sea Foods acted as either the manufacturer or exporter (but not both), because shrimp produced and exported by this company is not covered by the antidumping duty order. See Certain Frozen Warmwater Shrimp from India: Final Results of Antidumping Duty Administrative Review, Partial Rescission of Review, and Notice of Revocation of Order in Part, 75 FR 41813, 41814 (July 19, 2010). Accordingly, we are initiating this administrative review for: (1) Premier Marine Products Private Limited only once; (2) Triveni Fisheries P Ltd. and U & Company Marine Exports (instead of Triveni Fisheries P Ltd.U & Company Marine Exports); and (3) Devi Sea Foods, but only with respect to shrimp for which Devi Sea Foods is either the manufacturer or exporter, but not both.

None.

Duty Absorption Reviews

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant provisional-measures “gap” period, of the order, if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the final rule, available at http://enforcement.trade.gov/frn/2013/1304frn/2013-08227.txt, prior to submitting factual information in this segment.

Any party submitting factual information in an antidumping duty or countervailing duty proceeding must certify to the accuracy and completeness of that information.⁵ Parties are hereby reminded that revised certification requirements are in effect for company/government officials as well as their representatives. All segments of any antidumping duty or countervailing duty proceedings initiated on or after August 16, 2013, should use the formats for the revised certifications provided at the end of the Final Rule.⁶ Commerce intends to reject factual submissions in any proceeding segments if the submitting party does not comply with applicable revised certification requirements.

⁵ See section 782(b) of the Act.

⁶ See Certification of Factual Information To Import Administration During Antidumping and Countervailing Duty Proceedings, 78 FR 42678 (July 17, 2013) (Final Rule); see also the frequently asked questions regarding the Final Rule, available at http://enforcement.trade.gov/tlei/notices/factual_info_final_rule_FAQ_07172013.pdf.

Extension of Time Limits Regulation

Parties may request an extension of time limits before a time limit established under Part 351 expires, or as otherwise specified by the Secretary. See 19 CFR 351.302. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning U.S. Customs and Border Protection data; and (5) quantity and value questionnaires. Under certain circumstances, Commerce may elect to specify a different time limit by which extension requests will be considered untimely for submissions which are due from multiple parties simultaneously. In such a case, Commerce will inform parties in the letter or memorandum setting forth the deadline (including a specified time) by which extension requests must be filed to be considered timely. This modification also requires that an extension request must be made in a separate, stand-alone submission, and clarifies the circumstances under which Commerce will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: July 6, 2018.
Wendy J. Frankel,
Director, Customs and Border Protection Liaison Unit, Antidumping and Countervailing Duty Operations, Enforcement and Compliance.

[FR Doc. 2018-14923 Filed 7-11-18; 8:45 am]

BILLING CODE 3510-DS-P